DEPARTMENT OF HEALTH AND HUMAN SERVICES

Centers for Disease Control and Prevention

[60Day-17-17NW; Docket No. CDC-2017-0011]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a new information collection project titled “A Novel Framework for Structuring Industry-Tuned Public-Private Partnerships and Economic Incentives for U.S. Health Emergency Preparedness and Response”. This data collection will conduct interviews with industry leaders and survey private sector organization managers to systematically evaluate and explore the partnership preferences of private sector organizations, specifically when they are interacting or considering an interaction with government agencies.

DATES: Written comments must be received on or before June 26, 2017.

ADDRESSES: You may submit comments, identified by Docket No. CDC-2017-0011 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, of the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

A Novel Framework for Structuring Industry-Tuned Public-Private Partnerships and Economic Incentives for U.S. Health Emergency Preparedness and Response—New—Office of Public Health Preparedness and Response, Centers for Disease Control and Prevention (CDC).

Background and Brief Description

Despite the important role of public-private partnerships in supporting the U.S.'s public health preparedness and response mission, many partnership efforts are not successful due to poorly aligned incentives or lack of awareness of external market factors. There is little research or information on private sector incentive structures and partnership opportunities and barriers specific to public health preparedness and response. This study will evaluate the effectiveness of public-private partnership incentives from the perspective of private sector industries within the public health preparedness and response space.

CDC proposes to collect information from the private industry leaders in the public health preparedness and response space to accomplish this goal. Study activities will include (1) identifying public-private partnership incentives and target industries for public health preparedness and response; (2) conducting interviews with industry leaders in person or via telephone to identify related public health emergency preparedness activities and partnership opportunities and barriers; and (3) surveying private sector organization managers using on-line technology (Qualtrics) on key issues and attractiveness of partnership opportunities and incentives; and develop a framework to identify partnership target organizations, opportunities, and incentives to promote public health emergency preparedness capabilities.

The information collection request is composed of two parts: (1) Interviews and (2) an on-line general survey distributed. The targeted interviews will seek respondents in the following eight sectors: Pharmaceutical/life sciences (n = 8), health IT/mobile (n = 8), retailers/distributors (n = 6), academia/research organization (n = 6), hospital/healthcare provider (n = 5), health insurance (n = 4), logistics/transportation (n = 4), and charitable organization/foundation (n = 4). The interview questions and the information collected will vary significantly across the different sectors.

The survey portion of the information collection will be a larger survey that will be sent to 200 individuals to reach a total sample population of 100 (assuming a 50% response rate). The interviews and survey will only be administered one time to each individual respondent. CDC plans to conduct interviews and surveys within six months after OMB approval.

Members of the research team will conduct the interviews. Surveys will be conducted using the secure online software Qualtrics, and respondents will receive an email with a unique link that will direct them to the Qualtrics survey platform. All data will then be transferred to CDC's preferred Secure File Transfer Protocol (SFTP) client, where it will be stored and later accessed securely by members of the research team. After this transfer, all copies of the data that reside outside of the SFTP will be destroyed. Only the research team will have access to the interview transcripts and survey responses that will link responses to personally identifiable information. Any printed or hand-written documents containing PII will be stored securely in locked file cabinets when not in use, and will be destroyed once the information has been scanned or otherwise transferred into electronic files (which will also be transferred to the SFTP client). Access to the SFTP will require the user to enter a host address, username, password and port number, all of which will only be provided to the research team.

CDC will make the collected data available only to research team members for analysis and will maintain the data for the duration of the study. Identifiable information may be filed by the name of respondent on the SFTP, but it will not be removed from the SFTP in that format. Any information removed from the SFTP client to be shared with outside parties will be presented in aggregated and de-identified form, unless otherwise compelled by law. CDC will retain and destroy all records in accordance with the applicable CDC Records Control Schedule.

OPHPR is requesting an approval period of one year to collect this information. There are no cost burdens to respondents or record keepers for this data collection. The total time burden to respondents is 70 hours. See a summary of the annualized burden hours in the below table.

Estimated Annualized Burden Hours
Type of respondents | Form name | Number of respondents | Number of responses per respondent | Average burden per response (in hrs.) | Total burden (in hrs.)
Private Sector Organization Senior Leader | Interview Plan | 45 | 1 | 1 | 45
Private Sector Organization Manager | Survey Plan | 100 | 1 | 15/60 | 25
Total |  |  |  |  | 70

Leroy A. Richardson,
Chief, Information Collection Review Office, Office of Scientific Integrity, Office of the Associate Director for Science, Office of the Director' Centers for Disease Control and Prevention.

[FR Doc. 2017-08540 Filed 4-26-17; 8:45 am]

BILLING CODE 4163-18-P